DEPARTMENT OF AGRICULTURE

Animal and Plant Health Inspection Service

7 CFR Part 360

[Docket No. 98-064-2]

RIN 0579-AB07

Noxious Weed Regulations; Update of Current Provisions

AGENCY: Animal and Plant Health Inspection Service, USDA.

ACTION: Notice of extension of comment period.

SUMMARY: We are extending the comment period for an advance notice of proposed rulemaking that considers revising the noxious weed regulations issued under the Federal Noxious Weed Act. This action will allow interested persons additional time to prepare and submit comments.

DATES: We invite you to comment on Docket No. 98-064-1. We will consider all comments that we receive by June 19, 2000.

ADDRESSES: Please send your comment and three copies to: Docket No. 98-064-1, Regulatory Analysis and Development, PPD, APHIS, Suite 3C03, 4700 River Road, Unit 118, Riverdale, MD 20737-1238.

Please state that your comment refers to Docket No. 98-064-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Ms. Polly Lehtonen, Botanist, Permits and Risk Assessment, PPQ, APHIS, 4700 River Road Unit 133, Riverdale, MD 20737-1236; (301) 734-8896.

SUPPLEMENTARY INFORMATION:

Background

On March 20, 2000, we published in the Federal Register (65 FR 14927-14931, Docket No. 98-064-1) an advance notice of proposed rulemaking that considers revising the noxious weed regulations issued under the Federal Noxious Weed Act.

Comments on the advance notice were required to be received on or before May 19, 2000. We are extending the comment period on Docket No. 98-064-1 for an additional 30 days. This action will allow interested persons additional time to prepare and submit comments.

Authority: 7 U.S.C. 2803 and 2809; 7 CFR 2.22, 2.80, and 371.2(c).

Done in Washington, DC, this 12th day of May 2000.
Craig A. Reed,
Administrator, Animal and Plant Health Inspection Service.

[FR Doc. 00-12436 Filed 5-16-00; 8:45 am]

BILLING CODE 3410-34-U